FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 013214N.

Name: Great Way Trading & Transportation, Inc. dba G. W. Trans-World Co.

Address: 448 Grandview Drive, South San Francisco, CA 94080.

Date Revoked: May 7, 2006.

Reason: Failed to maintain a valid bond.

License Number: 018184N.

Name: JP Express Shipping, Corp.

Address: 1894 Washington Avenue, Bronx, NY 10457.

Date Revoked: May 4, 2006.

Reason: Failed to maintain a valid bond.

Sandra L. Kusumoto,
Director, Bureau of Certification and Licensing.

[FR Doc. E6-8502 Filed 5-31-06; 8:45 am]

BILLING CODE 6730-01-P